DEPARTMENT OF ENERGY

Proposed Agency Information Collection

AGENCY: Office of Energy Efficiency and Renewable Energy, U.S. Department of Energy.

ACTION: Notice and request for comments.

SUMMARY: The Department of Energy (DOE) today gives notice of a request for public comment, pursuant to the Paperwork Reduction Act of 1995, on the continued collection of information entitled: Budget Justification, which DOE has developed for submission to and approval by the Office of Management and Budget (OMB).

DATES: Comments regarding this proposed information collection must be received on or before March 23, 2018. If you anticipate difficulty in submitting comments within that period, contact the person listed in ADDRESSES as soon as possible.

ADDRESSES: Written comments may be sent to U.S. Department of Energy, Golden Field Office, 15013 Denver West Parkway Golden, CO 80401-3111, Attn: James Cash, or by email at james.cash@ee.doe.gov.

FOR FURTHER INFORMATION CONTACT: Requests for additional information or copies of the information collection instrument and instructions should be directed to James Cash, U.S. Department of Energy, Golden Field Office, 15013 Denver West Parkway Golden, CO 80401-3111, or by phone (240) 562-1456, or by email at james.cash@ee.doe.gov. The information collection instrument, titled “Budget Justification” may also be viewed at https://energy.gov/eere/funding/downloads/budget-justification-eere-335-and-3351.

SUPPLEMENTARY INFORMATION: This information collection request contains:

(1) OMB No. 1910-5162, Budget Justification;

(2) Information Collection Request Title: Budget Justification;

(3) Type of Request: Renewal;

(4) Purpose: This collection of information is necessary in order for DOE to identify allowable, allocable, and reasonable recipient project costs eligible for Grants and Cooperative Agreements under Energy Efficiency and Renewable Energy (EERE) programs;

(5) Annual Estimated Number of Respondents: 400;

(6) Annual Estimated Number of Total Responses: 400;

(7) Annual Estimated Number of Burden Hours: 24 hours, per response;

(8) Annual Estimated Reporting and Recordkeeping Cost Burden: $940.80 per one time response;

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Statutory Authority: Section 989(a) EPACT 2005 [Merit Review] { 42 U.S.C. 16353(a)}; Section 646 DOE Organization Act [Contracts] {42 U.S.C. 7256(a)}; and 31 U.S.C. 503 (the Chief Financial Officers Act, Functions of the Deputy Director for Management), 31 U.S.C. 1111 (Improving Economy and Efficiency of the United States Government), 41 U.S.C. 1101-1131 (the Office of Federal Procurement Policy Act), Reorganization Plan No. 2 of 1970, and Executive Order 11541 (“Prescribing the Duties of the Office of Management and Budget and the Domestic Policy Council in the Executive Office of the President”), the Single Audit Act Amendments of 1996, (31 U.S.C. 7501-7507), as well as The Federal Program Information Act (Pub. L. 95-220 and Pub. L. 98-169, as amended, codified at 31 U.S.C. 6101-6106).

Issued in Golden, CO, on January 8, 2018.
Derek Passarelli,
Director, Golden Field Office, U.S. Department of Energy, Office of Energy Efficiency and Renewable Energy, Golden Field Office.

[FR Doc. 2018-01027 Filed 1-19-18; 8:45 am]

BILLING CODE 6450-01-P